DEPARTMENT OF DEFENSE

Department of the Army, Corps of Engineers

Notice of Availability for the Draft Supplemental Environmental Impact Statement for the Proposed San Acacia to Bosque del Apache Project, Socorro County, NM

AGENCY: Department of the Army, U.S. Army Corps of Engineers, DoD.

ACTION: Notice of availability.

SUMMARY: The Albuquerque District, U.S. Army Corps of Engineers (Corps) has prepared a draft Supplemental Environmental Impact Statement (SEIS) on the findings of a flood risk management study along the Rio Grande from San Acacia downstream to San Marcial in Socorro County, New Mexico. The recommended plan is to replace the existing embankment between the Low Flow Conveyance Channel and the Rio Grande with a structurally competent levee capable of containing high-volume, long-duration flows. This engineered levee would substantially reduce the risk of damage from floods emanating from the Rio Grande. The local cost-sharing sponsors of the proposed project are the Middle Rio Grande Conservancy District and the New Mexico Interstate Stream Commission.

DATES: All comments must be submitted or postmarked no later June 11, 2012.

ADDRESSES: Comments, questions, requests for copies of the draft SEIS, and requests for notification of the public meeting can be addressed to: William DeRagon, email: william.r.deragon@usace.army.mil; or Mark Doles, email: mark.w.doles@usace,army.mil; U.S. Army Corps of Engineers, 4101 Jefferson Plaza NE., Albuquerque, New Mexico 87109.

FOR FURTHER INFORMATION CONTACT: Mr. William DeRagon, telephone: (505) 342-3358; or Mark Doles, telephone: (505) 342-3364.

SUPPLEMENTARY INFORMATION: Previously, an environmental impact statement (1992) and a supplement (1977) were published regarding this project. Currently, a new draft SEIS has been prepared to evaluate effects of revised levee design and additional alternatives. The draft SEIS is integrated with a draft General Reevaluation Report, and the integrated document is entitled: Draft General Reevaluation Report and Supplemental Environmental Impact Statement II: Rio Grande Floodway, San Acacia to Bosque del Apache Unit, Socorro County, New Mexico (hereafter referred to as the draft GRR/SEIS-II).

Alternatives developed and evaluated during the current and previous studies consist of levee reconstruction; flood and sediment control dams; local levees; intermittent levee replacement; watershed land treatment; floodproofing of buildings; levee-alignment setbacks; and no action. Issues analyzed in the development of the draft GRR/SEIS-II included the effect of alternatives on flood risk, developed lands and structures, water quality, ecological resources, endangered species, social welfare, cultural resources, and aesthetic qualities.

Public Review: The 45-day long review public review period for the draft SEIS begins on April 27, 2012; or on the filing date published by the U.S. Environmental Protection Agency in the Federal Register, if later. Copies of the draft SEIS are available at: http://www.spa.usace.army.mil/fonsi/. Copies also are available for review at the Socorro Public Library, 401 Park St, Socorro, NM.

A public meeting will be held during the review period in Socorro, New Mexico. An announcement of the exact date and location of the public meeting will be published in the Socorro, Albuquerque, and Santa Fe newspapers.

Julie A. Alcon,
U.S. Army Corps of Engineers Acting Chief, Planning Branch.

[FR Doc. 2012-10168 Filed 4-26-12; 8:45 am]

BILLING CODE 3720-58-P